DEPARTMENT OF TRANSPORTATION

Maritime Administration

[Docket No. DOT-MARAD-2023-0154]

Request for Comments on the Renewal of a Previously Approved Collection: Information To Determine Seaman's Reemployment Rights—National Emergency

AGENCY: Maritime Administration, DOT.

ACTION: 30-Day Federal Register notice.

SUMMARY: The Maritime Administration (MARAD) invites public comments on our intention to request the Office of Management and Budget (OMB) approval to renew an information collection in accordance with the Paperwork Reduction Act of 1995. The proposed collection OMB 2133-0526 (Information to Determine Seamen's Reemployment Rights—National Emergency) will be used to determine if U.S. civilian mariners are eligible for reemployment rights under the Maritime Security Act of 1996, which established provisions to allow for and procedures to obtain the necessary MARAD certification for re-employment rights and other benefits. We are required to publish this notice in the Federal Register by the Paperwork Reduction Act of 1995. The Paperwork Reduction Act of 1995 requires that we publish this notice in the Federal Register to obtain comments from the public and affected agencies. A 60-day Federal Register notice soliciting comments on this information collection was published on May 2, 2023.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Matthew Mueller, 202-366-7173, MAR-650, Mail Stop 2 1200 New Jersey Avenue SE, Washington, DC 20590, Email: careersafloat@dot.gov.

SUPPLEMENTARY INFORMATION:

Title: Information to Determine Seamen's Reemployment Rights—National Emergency.

OMB Control Number: 2133-0526.

Type of Request: Renewal of a previously approved information collection.

Abstract: This information collection is needed in order to implement provisions of the Maritime Security Act of 1996. These provisions grant re-employment rights and other benefits to certain merchant seamen serving aboard vessels used by the United States during times of national emergencies. The Maritime Security Act of 1996 establishes the procedures for obtaining the necessary MARAD certification for re-employment rights and other benefits.

Respondents: Individual U.S. citizen mariners, currently working ashore, who possess U.S. Coast Guard merchant mariner credentials and serve on U.S. vessels in time of national emergency.

Affected Public: U.S. merchant seamen who have completed designated national service during a time of maritime mobilization need and are seeking re-employment with a prior employer.

Estimated Number of Respondents: 10.

Estimated Number of Responses: 10.

Estimated Hours per Response: 1.

Annual Estimated Total Annual Burden Hours: 10.

Frequency of Response: Annually.

(Authority: The Paperwork Reduction Act of 1995; 44 U.S.C. chapter 35, as amended; and 49 CFR 1.49.)

By Order of the Maritime Administrator.
T. Mitchell Hudson, Jr.,
Secretary, Maritime Administration.

[FR Doc. 2023-16045 Filed 7-27-23; 8:45 am]

BILLING CODE 4910-81-P